DEPARTMENT OF COMMERCE

National Oceanic and Atmospheric Administration

50 CFR Part 660

[Docket No. 140904754-5188-02]

RIN 0648-BG27

Magnuson-Stevens Act Provisions; Fisheries Off West Coast States; Pacific Coast Groundfish Fishery; 2015-2016 Biennial Specifications and Management Measures; Inseason Adjustments

AGENCY: National Marine Fisheries Service (NMFS), National Oceanic and Atmospheric Administration (NOAA), Commerce.

ACTION: Final rule; inseason adjustments to biennial groundfish management measures.

SUMMARY: This final rule announces inseason changes to management measures in the Pacific Coast groundfish fisheries. This action, which is authorized by the Pacific Coast Groundfish Fishery Management Plan (PCGFMP), is intended to allow fisheries to access more abundant groundfish stocks while protecting overfished and depleted stocks.

DATES: This final rule is effective September 1, 2016.

FOR FURTHER INFORMATION CONTACT: Benjamin Mann, phone: 206-526-6117, fax: 206-526-6736, or email: benjamin.mann@noaa.gov.

SUPPLEMENTARY INFORMATION:

Electronic Access

This rule is accessible via the Internet at the Office of the Federal Register Web site at https://www.federalregister.gov. Background information and documents are available at the Pacific Fishery Management Council's Web site at http://www.pcouncil.org/. Copies of the final environmental impact statement (FEIS) for the Groundfish Specifications and Management Measures for 2015-2016 and Biennial Periods Thereafter are available from Chuck Tracy, Executive Director, Pacific Fishery Management Council (Council), 7700 NE Ambassador Place, Portland, OR 97220, phone: 503-820-2280.

Background

The Pacific Fishery Management Council (Council)—in coordination with Pacific Coast Treaty Indian Tribes and the States of Washington, Oregon, and California—recommended changes to groundfish management measures at its June 21-28, 2016, meeting. Specifically, the Council recommended taking a portion of the Pacific ocean perch (POP) initially deducted from the annual catch limit (ACL) and making it available to the mothership (MS) sector; a trip limit increase for black rockfish in the limited entry fixed gear (LEFG) and open access (OA) fisheries in northern California; and trip limit reductions in the OA sablefish daily trip limit (DTL) fishery north of 36° N. lat.

Transferring POP to the Mothership Sector

As part of biennial harvest specifications and management measures, ACLs are set for non-whiting groundfish species, deductions are made “off-the-top” from the ACL to account for various sources of mortality (including scientific research activities) and the remainder, the fishery harvest guideline, is allocated among the various groundfish fisheries. The limited availability of overfished species that can be taken as incidental catch in the Pacific whiting fishery, particularly darkblotched rockfish, POP, and canary rockfish, led NMFS to implement sector-specific allocations for these species to the Pacific whiting fisheries. If the sector-specific allocation for a non-whiting species is reached, NMFS may close one or more of the at-sea sectors automatically, per regulations at § 660.60(d).

At the June, 2016 meeting, MS and catcher/processor (C/P) sectors requested more POP to accommodate higher than anticipated harvest and prevent closure of the fishery prior to harvesting their allocations of Pacific whiting.

At the start of 2016, the MS and C/P sectors of the Pacific whiting fishery were allocated 7.2 mt and 10.2 mt of POP respectively, per regulations at § 660.55(c)(1)(i)(B). According to the best fishery information available at the June 2016 meeting, POP bycatch in the MS sector was approximately double 2016 POP bycatch projections. At that time, best available information regarding bycatch rates of POP in the MS sector indicated that if those rates continued, only 53 percent (38,246 mt) of the Pacific whiting allocation would be harvested by the end of the 2016 fishery. Therefore, the Council recommended that NMFS monitor fishery harvest of Pacific whiting and POP relative to their respective at-sea sector allocations, update projections of Pacific whiting allocation attainment based on new, updated POP bycatch rates, and if necessary, transfer some POP that would otherwise go unharvested to either the MS or C/P sectors as needed.

Current projections by the Northwest Fishery Science Center indicate that approximately 3.7 mt of POP off-the-top deductions for scientific research would remain unharvested through the end of the year. As of August 11, 2016, the C/P sector has only harvested approximately 4.1 percent (0.41 mt) of its 2016 POP allocation indicating the C/P sector has sufficient POP allocation to cover their Pacific whiting harvests. However, approximately 70 percent (5.0 mt) of the total MS sector POP allocation has been harvested and only approximately 47 percent (34,256.46 mt) of the Pacific whiting allocation has been harvested. Using the most recent catch data through August 11, 2016, NMFS projects that at current rates, the MS sector will only harvest approximately 49 percent (35,486.35 mt) of its total Pacific whiting allocation (74,415 mt) before reaching the 7.2 mt POP allocation. Therefore, consistent with the Council's June recommendation to take into account the best estimates of the amount of POP available and the updated bycatch rates in the MS and C/P fisheries, NMFS is transferring 3.0 mt of POP to the at-sea sectors.

This rule transfers 3.0 mt of POP that is expected to go unharvested from the scientific research off-the-top deduction to the MS sector. This transfer increases the MS sector POP allocation from 7.2 mt to 10.2 mt. The remaining amount in the off-the-top deduction for scientific research is anticipated to go unharvested (0.7 mt) but is not transferred at this time to buffer for uncertainty in the estimates of POP harvest in scientific research. This inseason action increases the POP amount available to the MS sector, and is expected to provide opportunity for the MS sector to obtain their entire Pacific whiting allocation (72,415 mt). Transfer of POP to the MS sector, when combined with projected impacts from all other sources, is not expected to result in greater impacts to POP than the 2016 ACL. This action is also not expected to increase impacts to other overfished species from those originally projected through the end of the year.

Increase in Trip Limits for the Black Rockfish LEFG and OA Fisheries Between 42° N. Lat. and 40°10′ N. Lat.

Black rockfish are caught in nearshore commercial and recreational fisheries. Black rockfish is a healthy stock that co-occurs with nearshore overfished rockfish species (e.g. canary rockfish and yelloweye rockfish). Catch of black rockfish is managed, in part, to keep catch of co-occurring overfished species within the management targets for the nearshore fishery and the state of California. In 2016, reduced fishing effort as a result of poor weather and ocean conditions has significantly impacted catch rate of black rockfish in the area between 42° N. lat., and 40°10′ N. lat. for the LEFG and OA black rockfish commercial fisheries. The State of California reported 2016 black rockfish catch to be approximately 5 percent of the total allocation (19.9 mt of the 420 mt allocated). To provide the opportunity to harvest a larger portion of their allocation the Council recommended and NMFS is implementing an increase in the bimonthly trip limits for the LEFG fishery and the OA fishery between 42° N. lat., and 40°10′ N. lat. from “6,000 lbs/2 months which, no more than 1,200 lbs may be species other than black rockfish” to “7,000 lbs/2 months of which, no more than 1,200 lbs may be species other than black rockfish.” The increased trip limits described above will be effective in periods 5 and 6, beginning September 1.

Reduction in Trip Limits in the OA Sablefish Fishery North of 36° N. Lat.

Reduced opportunities in other fisheries (e.g. crab and salmon) in 2016 have resulted in higher than normal effort in the open access sablefish fishery north of 36° N. lat. Reports from the PacFIN Quota Species Monitoring (QSM) Best Estimate Report (BER) dated June 18, 2016 indicate actual landings have been approximately double 2016 projections in the fishery. The Council's groundfish advisory panel (GAP) recommended a reduction in trip limits to reduce effort in order to avoid exceeding 2016 sablefish allocations to the fishery. The Council's GMT projected landings at the current rate of effort were 112 percent to 117 percent of the total OA allocation, through the end of the year. At its June 2016 meeting, the Council recommended and NMFS is implementing a trip limit adjustment from “300 lbs/day, or one landing per week of up to 850 lb, not to exceed 1,700 lb/2 months” to “300 lbs/day, or one landing per week of up to 750 lbs, not to exceed 1,500 lbs/2 months.” Model projections through the end of the year with these adjustments show a total landing of 98 percent of the 2016 OA allocation. The reduced trip limits described above will be effective in periods 5 and 6, beginning September 1.

Classification

This final rule makes routine inseason adjustments to groundfish fishery management measures, based on the best available information. This document also serves as notice of an automatic action, based on the best available information. Both are consistent with the PCGFMP and its implementing regulations.

This action is taken under the authority of 50 CFR 660.60(c) and (d) and 660.140(a)(3) and is exempt from review under Executive Order 12866.

The aggregate data upon which these actions are based are available for public inspection at the Office of the Administrator, West Coast Region, NMFS, during business hours.

NMFS finds good cause to waive prior public notice and comment on the revisions to groundfish management measures under 5 U.S.C. 553(b) because notice and comment would be impracticable and contrary to the public interest. Also, for the same reasons, NMFS finds good cause to waive the 30-day delay in effectiveness pursuant to 5 U.S.C. 553(d)(3), so that the regulatory changes in this final rule may become effective September 1, 2016.

At its June 2016 meeting, the Council recommended that NMFS consider a transfer of POP to the MS and C/P sectors, as needed based on the most recent fishery information. The Council recommended that the transfer be implemented as quickly as possible once the amount of POP, that would otherwise go unharvested in scientific research activities, was estimated. Updated catch information from scientific research activities became available in early August. There was not sufficient time after the June 2016 Council meeting or after research catch information was available to undergo proposed and final rulemaking before this action needs to be in effect. For the action implemented in this final rule, affording the time necessary for prior notice and opportunity for public comment would prevent transfer of POP to the MS sector until later in the season, or potentially eliminate the possibility of doing so during the 2016 calendar year entirely, and is therefore impracticable. Failing to transfer POP to the MS sector in a timely manner could result in unnecessary restriction of fisheries if the MS sector exceeded their allocations. Providing the MS sector fishermen an opportunity to harvest their limits of Pacific whiting without interruption and, when combined with harvest from other sectors, without exceeding the POP ACL, allows harvest as intended by the Council, consistent with the best scientific information available. The Pacific whiting fishery contributes a large amount of revenue to the coastal communities of Washington and Oregon and this change allows continued harvest of Pacific whiting while continuing to prevent ACLs of overfished species and the allocations for target species from being exceeded.

The Council also recommended commercial trip limit changes for black rockfish and sablefish. These changes are based on the best available information, consistent with the PCGFMP and its implementing regulations. At the June Council meeting the Council recommended that increase to black rockfish trip limits be implemented as quickly as possible during the two-month cumulative limit period and that the decrease to sablefish trip limits be implemented as quickly as possible, by the start of the next cumulative limit period. There was not sufficient time after that meeting to draft this document and undergo proposed and final rulemaking before these actions need to be in effect. For the actions to be implemented in this final rule, affording the time necessary for prior notice and opportunity for public comment would prevent NMFS from managing fisheries using the best available science to approach, without exceeding, the ACLs for federally managed species in accordance with the PCGFMP and applicable law. The adjustments to management measures in this document affect commercial fisheries off Washington, Oregon, and California. These increases to trip limits must be implemented as quickly as possible during the two-month cumulative limit period to allow OA fixed gear fishermen an opportunity to harvest higher limits of black rockfish without exceeding the ACL. The decrease to sablefish trip limits must be implemented by the start of the next two-month cumulative limit period, September 1, to prevent exceedance of the ACL and allow year-round fishing opportunities for fishermen. It would be contrary to public interest to delay implementation of these changes until after public notice and comment, because making the regulatory changes by September 1, allows harvest as intended by the Council, consistent with the best scientific information available. The increase to black rockfish trip limits allows additional harvest in fisheries that are important to coastal communities while continuing to prevent the black rockfish ACL from being exceeded. The decrease to sablefish trip limits allows continued harvest in a fishery that is important to coastal communities while continuing to prevent sablefish ACL from being exceeded.

For the actions to be implemented in this final rule, affording the time necessary for prior notice and opportunity for public comment would prevent NMFS from managing fisheries using the best available science to prevent overfishing in accordance with the PCGFMP and applicable law.

Delaying these changes would also keep management measures in place that are not based on the best available information. Such delay would impair achievement of the PCGFMP goals and objectives of managing for appropriate harvest levels while providing for year-round fishing and marketing opportunities.

Accordingly, for the reasons stated above, NMFS finds good cause to waive prior notice and comment and to waive the delay in effectiveness.

List of Subjects in 50 CFR Part 660

Fisheries, Fishing, Indian fisheries.

Dated: August 29, 2016.
Emily H. Menashes,
Acting Director, Office of Sustainable Fisheries, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. Table 2b to part 660, subpart C, is revised to read as follows:

Table 2b to Part 660, Subpart C—2016, and Beyond, Allocations by Species or Species Group
[Weight in metric tons]
Species | Area | Fishery HG or ACT | Trawl: % | Trawl: Mt | Non-trawl: % | Non-trawl: Mt
BOCACCIO ᵃ | S of 40°10′ N. lat | 353.7 | N/A | 85.0 | N/A | 268.7
Canary rockfish a b | Coastwide | 109.8 | N/A | 58.5 | N/A | 51.3
COWCOD a c | S of 40°10′ N. lat | 4.0 | N/A | 1.4 | N/A | 2.6
DARKBLOTCHED ROCKFISH ᵈ | Coastwide | 325.2 | 95 | 308.9 | 5 | 16.3
Petrale sole ᵃ | Coastwide | 2,673.4 | N/A | 2,638.4 | N/A | 35.0
PACIFIC OCEAN PERCH ᵉ | N of 40°10′ N. lat | 149.0 | 95 | 141.6 | 5 | 7.5
YELLOWEYE ROCKFISH ᵃ | Coastwide | 13.2 | N/A | 1.1 | N/A | 12.1
Arrowtooth flounder | Coastwide | 3,241 | 95 | 3,079 | 5 | 162
Chilipepper | S of 40°10′ N. lat | 1,595 | 75 | 1,196 | 25 | 399
Dover sole | Coastwide | 48,406 | 95 | 45,986 | 5 | 2,420
English sole | Coastwide | 6,991 | 95 | 6,642 | 5 | 350
Lingcod | N of 40°10′ N. lat | 2,441 | 45 | 1,098 | 55 | 1,342
Lingcod | S of 40°10′ N. lat | 937 | 45 | 422 | 55 | 515
Longnose skate ᵃ | Coastwide | 1,927 | 90 | 1,734 | 10 | 193
Longspine thornyhead | N of 34°27′ N. lat | 2,969 | 95 | 2,820 | 5 | 148
Pacific cod | Coastwide | 1,091 | 95 | 1,036 | 5 | 55
Pacific whiting | Coastwide | 301,731 | 100 | 301,731 | 0 | 0
Sablefish | N of 36° N. lat | 0 | See Table 1C
Sablefish | S of 36° N. lat | 1,875 | 42 | 788 | 58 | 1,088
Shortspine thornyhead | N of 34°27′ N. lat | 1,667 | 95 | 1,583 | 5 | 83
Shortspine thornyhead | S of 34°27′ N. lat | 871 | NA | 50 | NA | 821
Splitnose | S of 40°10′ N. lat | 1,736 | 95 | 1,649 | 5 | 87
Starry flounder | Coastwide | 1,529 | 50 | 764 | 50 | 764
Widow rockfish ᶠ | Coastwide | 1,880 | 91 | 1,711 | 9 | 169
Yellowtail rockfish | N of 40°10′ N. lat | 5,314 | 88 | 4,677 | 12 | 638
Minor Shelf Rockfish complex ᵃ | N of 40°10′ N. lat | 1,880 | 60.2 | 1,132 | 39.8 | 748
Minor Shelf Rockfish complex ᵃ | S of 40°10′ N. lat | 1,576 | 12.2 | 192 | 87.8 | 1,384
Minor Slope Rockfish complex | N of 40°10′ N. lat | 1,642 | 81 | 1,330 | 19 | 312
Minor Slope Rockfish complex | S of 40°10′ N. lat | 675 | 63 | 425 | 37 | 250
Other Flatfish complex | Coastwide | 7,039 | 90 | 6,335 | 10 | 704
ᵃ Allocations decided through the biennial specification process.
ᵇ 14.0 mt of the total trawl allocation of canary rockfish is allocated to the at-sea whiting fisheries, as follows: 5.8 mt for the mothership fishery, and 8.2 mt for the catcher/processor fishery.
ᶜ The cowcod fishery harvest guideline is further reduced to an ACT of 4.0 mt.
ᵈ Consistent with regulations at § 660.55(c), 9 percent (27.8 mt) of the total trawl allocation for darkblotched rockfish is allocated to the whiting fisheries, as follows: 11.7 mt for the shorebased IFQ fishery, 6.7 mt for the mothership fishery, and 9.4 mt for the catcher/processor fishery. The tonnage calculated here for the whiting portion of the shorebased IFQ fishery contributes to the total shorebased trawl allocation, which is found at 660.140(d)(1)(ii)(D).
ᵉ Consistent with regulations at § 660.55(c), 30 mt of the total trawl allocation for POP is allocated to the whiting fisheries, as follows: 12.6 mt for the shorebased IFQ fishery, 7.2 mt for the mothership fishery, and 10.2 mt for the catcher/processor fishery. The amount available to the mothership fishery was raised from 7.2 mt to 10.2 mt, by transferring 3.0 mt of the 5.2 mt initially deducted from the ACL to accunt for scientific research mortality, consistent with § 660.60(c)(3)(ii). The tonnage calculated here for the whiting portion of the shorebased IFQ fishery contributes to the total shorebased trawl allocation, which is found at 660.140(d)(1)(ii)(D).
ᶠ Consistent with regulations at § 660.55(c), 500 mt of the total trawl allocation for widow rockfish is allocated to the whiting fisheries, as follows: 210 mt for the shorebased IFQ fishery, 120 mt for the mothership fishery, and 170 mt for the catcher/processor fishery. The tonnage calculated here for the whiting portion of the shorebased IFQ fishery contributes to the total shorebased trawl allocation, which is found at 660.140(d)(1)(ii)(D).

3. Table 2 (North) to part 660, subpart E, is revised to read as follows:

BILLING CODE 3510-22-P

4. Tables 3 (North) and 3 (South) to part 660, subpart F, are revised to read as follows:

[FR Doc. 2016-21091 Filed 8-31-16; 8:45 am]

BILLING CODE 3510-22-C